DEPARTMENT OF TRANSPORTATION

Federal Aviation Administration

[Docket No. FAA-2025-0672]

Agency Information Collection Activities: Requests for Comments; Clearance of Renewed Approval of Information Collection: Certification of Airports, Part 139

AGENCY: Federal Aviation Administration (FAA), DOT.

ACTION: Notice and request for comments.

SUMMARY: In accordance with the Paperwork Reduction Act of 1995, the FAA invites public comments about our intention to request approval from the Office of Management and Budget (OMB) to renew an information collection. Title 14, Code of Federal Regulations (14 CFR) part 139 establishes certification requirements for airports serving scheduled passenger-carrying operations of an air carrier operating aircraft configured for more than 9 passenger seats, as determined by the regulations under which the operation is conducted or the aircraft type certificate issued by a competent civil aviation authority; and unscheduled passenger-carrying operations of an air carrier operating aircraft configured for at least 31 passenger seats, as determined by the regulations under which the operation is conducted or the aircraft type certificate issued by a competent civil aviation authority. This part does not apply to: airports serving scheduled air carrier operations only by reason of being designated as an alternate airport; airports operated by the United States; airports located in the State of Alaska that serve only scheduled operations of small air carrier aircraft and do not serve scheduled or unscheduled operations of large air carrier aircraft; airports located in the State of Alaska during periods of time when not serving operations of large air carrier aircraft; or heliports.

DATES: Written comments should be submitted by November 14, 2025.

ADDRESSES: Please send written comments:

By Electronic Docket: www.regulations.gov. Enter docket number: FAA-2025-0672 into search field.

By email: chel.schweitzer@faa.gov.

FOR FURTHER INFORMATION CONTACT: Chel Schweitzer by email at: chel.schweitzer@faa.gov; phone: 202-267-2677.

SUPPLEMENTARY INFORMATION:

Public Comments Invited: You are asked to comment on any aspect of this information collection, including (a) Whether the proposed collection of information is necessary for FAA performance; (b) the accuracy of the estimated burden; (c) ways for the FAA to enhance the quality, utility, and clarity of the information collection; and (d) ways that the burden could be minimized without reducing the quality of the collected information. The agency will summarize and/or include your comments in the request for OMB clearance of this information collection.

The collection involves FAA Form 5280-1, Application for Airport Operating Certificate. Every airport sponsor seeking airport certification under part 139 must complete this form, as well as provide a draft Airport Certification Manual (ACM). In addition, currently certificated part 139 airports must maintain their ACM, and keep and maintain records related to training, self-inspection, and other requirements of part 139.

The collection includes new requirements for Safety Management Systems (SMS) at certain part 139 airports, and the inclusion of Unmanned Aerial Systems (UAS) response plans in an airport's Airport Emergency Plan (AEP) or Airport Security Plan (ASP).

These records allow the FAA to verify airports meet part 139 minimum safety and operational requirements to enhance the safety of the flying public.

OMB Control Number: 2120-0675.

Title: Certification of Airports, 14 CFR part 139.

Form Numbers: FAA Form 5280-1.

Type of Review: Renewal of an information collection.

Background: The statutory authority to issue airport operating certificates to airports serving certain air carriers and to establish minimum safety standards for the operation of those airports is currently found in Title 49, United States Code (U.S.C.) § 44706, Airport operating certificates. The FAA uses this authority to issue requirements for the certification and operation of certain airports that service commercial air carriers. These FAA requirements are contained in Title 14, Code of Federal Regulations Part 139 (14 CFR part 139), Certification of Airports as amended. Information collection requirements are used by the FAA to determine an airport operator's compliance with part 139 safety and operational requirements, and to assist airport personnel to perform duties required under the regulation.

Operators of certificated airports are required to complete FAA Form 5280-1 and develop, and comply with a written document, an Airport Certification Manual (ACM), that details how an airport will comply with the requirements of part 139. The ACM shows the means and procedures whereby the airport will be operated in compliance with part 139, in addition to other instructions and procedures to help personnel concerned with operation of the airport to perform their duties and responsibilities.

When an airport satisfactorily complies with such requirements, the FAA issues to that facility an airport operating certificate (AOC) that permits an airport to serve air carriers. The FAA periodically inspects these airports to ensure continued compliance with part 139 safety requirements, including the maintenance of specified records. Both the application for an AOC and annual compliance inspections require operators of certificated airports to collect and report certain operational information. The AOC remains in effect as long as the need exists, and the operator must comply with the terms of the AOC and the ACM.

The likely respondents to new information requests are those civilian U.S. airport certificate holders who operate airports that serve scheduled and unscheduled operations of air carrier aircraft with more than 9 passenger seats (approximately 518 airports). These airport operators already hold an AOC and comply with all current information collection requirements.

Operators of certificated airports are permitted to choose the methodology to report information and can design their own recordkeeping system. As airports vary in size, operations, and complexity, the FAA has determined this method of information collection allows airport operators greater flexibility and convenience to comply with reporting and recordkeeping requirements. All of the information may be submitted electronically.

The FAA has an automated system, the Certification and Compliance Management Information System (CCMIS), which is a national database of airport inspection information that is accessible by FAA airport safety and certification inspectors. This information in this system is monitored to detect trends and developing safety issues, to allocate inspection resources, and generally, to be more responsive to the needs of regulated airports.

The FAA has developed an automated reporting tool, the Airport Crisis Response Reporting (ACRR) tool, which allows airport personnel to directly input the operational status of an airport following an incident or emergency event that impacts an airport or the surrounding area.

The following types of information are new to this information collection: the required implementation of SMS at certain airports and the requirement for all airports to maintain a UAS Response Plan.

Part 139 subpart E (“Airport Safety Management System”), mandates Safety Management Systems. Operators of certificated airports are permitted to choose the methodology for reporting information and can design their own recordkeeping systems to meet their specific needs. This flexibility allows airports, which vary in size, operations, and complexity, to comply with FAA reporting and recordkeeping requirements more efficiently. All information collected under SMS can be submitted electronically. Airports are responsible for gathering and maintaining data on safety-related activities, including incident reports, safety risks, corrective actions, and performance evaluations. This information is crucial for the FAA to monitor safety trends, assess emerging risks, and allocate resources effectively, ensuring that safety management practices align with regulatory standards.

Section 139.325 (“Airport emergency plan.”) requires part 139 certificate holders to develop and maintain an Airport Emergency Plan (AEP) to minimize the possibility and extent of personal injury and property damage on the airport in an emergency. UAS (Unmanned Aircraft Systems) Response Plans have become a mandatory component of an airport's AEP in response to the increasing risks posed by UAS (often referred to as “drones”) operations near airports. Recently mandated by the FAA, these plans outline the procedures airports must follow to detect, assess, and respond to UAS threats that could interfere with airport operations or compromise safety. The UAS Response Plans include strategies for coordination between airport personnel, local law enforcement, and the FAA, as well as protocols for identifying and mitigating potential UAS hazards. These plans ensure that airports are prepared to address the unique challenges posed by UAS incidents, enabling a swift and coordinated response to minimize disruptions and protect both aviation safety and security.

Respondents: Approximately 518 airports.

Frequency: Information collected on occasion.

Estimated Average Burden per Response: 759 hours.

Estimated Total Annual Burden: 393,008 hours.

Issued in Washington, DC, on this date, 11 September 2025.
Anthony M. Butters,
Acting Manager, Airport Safety and Operations (AAS-300).

[FR Doc. 2025-17759 Filed 9-12-25; 8:45 am]

BILLING CODE 4910-13-P